DEPARTMENT OF HEALTH AND HUMAN SERVICES

Centers for Disease Control and Prevention

[60Day-02-37]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project

Bioterrorism Needs Assessment For Hospitals—New—National Center for Infectious Disease (NCID), Centers for Disease Control and Prevention (CDC). In October-November 2001, following the reports of anthrax cases, the infection control community indicated to the Division of Healthcare Quality Promotion that there was a need for more bioterrorism-related information. A needs assessment was created and pilot tested in eight hospitals to assist DHQP in providing guidance to hospitals for preparedness and response. The needs assessment will gather information that will help the Division and other areas of CDC in evaluating CDC strategies for identifying and developing the materials and communication mechanisms that hospitals need most to adequately prepare for and respond to possible bioterrorism events in the future. The Division of Healthcare Quality Promotion has a more than 30-year history of being seen as a reliable source of information to the infection control community. Our objective is to determine the needs of hospitals so they are adequately prepared to recognize and treat bioterrorism-related diseases and prevent further transmission of disease. This will ultimately enable them to do their jobs better, identify bioterrorism events more quickly, and prevent morbidity and mortality.

The needs assessment will assess the bioterrorism planning and preparedness, resources and communication, impact of anthrax events, surveillance for bioterrorism-related diseases, education and training, and information needs in hospitals. The data from responding hospitals will be used to develop improved methods of communication to healthcare providers and facilities, establish the best way for CDC to disseminate materials, assure disaster plans are in place, and determine what information from CDC is of greatest need to healthcare facilities.

The data collection will use web-based technology to gather information in a systematic fashion to better assist hospitals. These topics were chosen for the needs assessment by staff members of the Division of Healthcare Quality Promotion, who provided expertise to healthcare facilities after the September 11th attacks. There are no costs to the respondents. The table below shows the estimated annual burden in hours to complete the needs assessment.

Title | No. of respondents | No. of responses/ respondent | Average burden/ response (in hrs.) | Total burden (in hrs.)
Bioterrorism needs assessment for heathcare facilities | 4,000 | 1 | 15/60 | 1,000
Total |  |  |  | 1,000

Dated: March 26, 2002.
Nancy Cheal,
Acting Associate Director for Policy, Planning and Evaluation, Centers for Disease Control and Prevention.

[FR Doc. 02-8224 Filed 4-4-02; 8:45 am]

BILLING CODE 4163-18-P